DEPARTMENT OF THE INTERIOR

National Park Service

[NPS-WASO-NAGPRA-18042;PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum, University of Washington (Burke Museum), has completed an inventory of human remains and associated funerary object, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary object should submit a written request to the Burke Museum. If no additional requestors come forward, transfer of control of the human remains and associated funerary object to the lineal descendants, Indian tribes, or Native Hawaiian organizations stated in this notice may proceed.

DATES: Lineal descendants or representatives of any Indian tribe or Native Hawaiian organization not identified in this notice that wish to request transfer of control of these human remains and associated funerary object should submit a written request with information in support of the request to the Burke Museum at the address in this notice by May 28, 2015.

ADDRESSES: Peter Lape, Burke Museum, University of Washington, Box 353010, Seattle, WA 98195, telephone (206) 685-3849 x2, email plape@uw.edu.

SUPPLEMENTARY INFORMATION: Notice is here given in accordance with the Native American Graves Protection and Repatriation Act (NAGPRA), 25 U.S.C. 3003, of the completion of an inventory of human remains and associated funerary object under the control of the Burke Museum, Seattle, WA. The human remains and associated funerary object were removed from Dutch Harbor, Amaknak Island, Aleutians East Borough, AK.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the Burke Museum professional staff in consultation with representatives of Qawalangin Tribe of Unalaska.

History and Description of the Remains

In 1943, human remains representing, at minimum, one individual were removed from a sandpit two miles south of the entrance to Dutch Harbor on Unalaska or Amaknak Island, Aleutians East Borough, AK. These human remains were collected by Charles Joseph Zemalis, who was enlisted in the U.S. Navy at the time, and accessioned by the Burke Museum in 1946 (Burke Accn. #3427). The accession record noted the human remains came from 30 inches beneath the surface in a midden, along with a bone point.

In 1974, several sets of human remains, including Burke Accn. #3427, were transferred to Seattle University from the Burke Museum. Sometime after that, the human remains were supposedly found in a warehouse and were later given to the New York State Police by a woman who claimed her deceased husband found the human remains in Seattle. The human remains were then given to the Washington State Physical Anthropologist Dr. Guy Tasa, who determined that the human remains were originally from the Burke Museum's collection and returned them to the Burke in 2010. No known individuals were identified. The one associated funerary object is a bone point, which has been in the Burke's collections since 1946.

The human remains have been determined to be Native American based on osteological and archeological evidence. While the exact site from which these human remains were removed is unknown, the area around Unalaska Bay and Dutch Harbor has numerous documented archeological sites occupied by the Aleut (Unangan) people (Damas, 1984; McCartney, 1998). Most of these sites are deep midden deposits that date from historic times back 4000 years. During World War II, many of these sites, especially on Amaknak Island, were impacted by military projects, and soldiers were known to have collected material (McCartney, 1998). The one bone point funerary object is consistent with material culture from the region and time period (Damas, 1984; McCartney, 1998). The modern day descendants of the Unalaska Bay Aleut (Unangan) are members of the Qawalangin Tribe of Unalaska.

Determinations Made by the Burke Museum

Officials of the Burke Museum have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Qawalangin Tribe of Unalaska.

Additional Requestors and Disposition

Lineal descendants or representatives of any Indian tribe or Native Hawaiian organization not identified in this notice that wish to request transfer of control of these human remains and associated funerary object should submit a written request with information in support of the request to Peter Lape, Burke Museum, University of Washington, Box 353101, Seattle, WA 98195, telephone (206) 685-3849 x2, email plape@uw.edu, by May 28, 2015. After that date, if no additional requestors have come forward, transfer of control of the human remains and associated funerary object to Qawalangin Tribe of Unalaska may proceed.

The Burke Museum is responsible for notifying the Qawalangin Tribe of Unalaska that this notice has been published.

Dated: April 2, 2015.
Mariah Soriano,
Acting Manager, National NAGPRA Program.

[FR Doc. 2015-09922 Filed 4-27-15; 8:45 am]

BILLING CODE 4312-50P